DEPARTMENT OF THE INTERIOR

National Park Service

National Register of Historic Places; Notification of Pending Nominations

Nominations for the following properties being considered for listing in the National Register were received by the National Park Service before February 24, 2001. Pursuant to 60.13 of 36 CFR Part 60 written comments concerning the significance of these properties under the National Register criteria for evaluation may be forwarded to the National Register, National Park Service, 1849 C St. NW., NC400, Washington, DC 20240. Written comments should be submitted by March 26, 2001.

Paul R. Lusignan,
Acting Keeper of the National Register of Historic Places.

ARKANSAS

Clark County

Thompson, C.E., General Store and House, (Arkansas Highway History and Architecture MPS), 3100 Hollywood, Arkadelphia, 01000302

Pulaski County

Bragg Guesthouse, 1615 Cumberland, Little Rock, 01000301

COLORADO

Conejos County

S.P.M.D.T.U. Concilio Superior, 603 Main St., Antonito, 01000322

DISTRICT OF COLUMBIA

District of Columbia

Meridian Manor, 1424 Chapin St., NW, Washington, 01000324

FLORIDA

Alachua County

Lake Pithlachocco Canoe Site, N end of Newman's Lake, Gainesville, 01000303

Polk County

Roosevelt School, 115 East St. N, Lake Wales, 01000306

GEORGIA

Tattnall County

Smith—Nelson Hotel, 118 S. Main St., Reidsville, 01000305

MASSACHUSETTS

Middlesex County

Dutton—Holden Homestead, 28 Pond St., Billerica, 01000307

Suffolk County

Dorchester—Milton Lower Mills Industrial District (Boundary Increase, Roughlys Adams, River, Medway Sts., Millers Lane, Eliot and Adams Sts., Boston, 01000304

MONTANA

Broadwater County

Crow Creek Water Ditch, Helena National Forest—Headwaters Resource Area, Townsend, 01000323

Silver Bow County

Matt's Place Drive-In, 2339 Placer St., Butte, 01000308

NEW YORK

Columbia County

Turtle House, 14 Fabiano Blvd., Greenport, 01000309

SOUTH CAROLINA

Horry County

Galivants Ferry Historic District, Jct. of US 501, Pee Dee Rd., and Galivants Ferry Rd., Galivants Ferry, 01000321

Orangeburg County

Springfield High School, Brodie St., bet. SC 4 and Georgia St., Springfield, 01000313

Pickens County

Morgan House, 416 Church St., Central, 01000312

Spartanburg County

Hotel Oregon, 247 and 249 Magnolia St., Spartanburg, 01000311

TEXAS

Bexar County

Harris, Ethel Wilson, House, 6519 San Jose Dr.—San Antonio Missions NHP, San Antonio, 01000325

UTAH

Box Elder County

Holmgren Farmstead, 460 N 300 E, Tremonton, 01000319

Kane County

Johnson, William Derby, Jr., House, (Kanab, Utah MPS) 54 S. Main St., Kanab, 01000315

Rider—Pugh House, (Kanab, Utah MPS) 17 W 100 S, Kanab, 01000316

Stewart—Woolley House, (Kanab, Utah MPS) 106 W 100 N, Kanab, 01000314

SALT LAKE COUNTY

Salt Lake Northwest Historic District, Roughly bounded by 1100 West, 600 North, 500 West, and North Temple, Salt Lake City, 01000320

Uintah County

Smith, Francis “Frank” and Eunice, House, 1847 N 3000 W, Vernal, 01000317

VERMONT

Chittenden County,

Richmond Congregational Church, Jct. of Bridge and Church St., Richmond, 01000326

WISCONSIN

Milwaukee County

Gimbels Parking Pavilion, 555 N. Plankinton Ave., Milwaukee, 01000310

Sheboygan County

Kohler Company Factory Complex, 444 Highland Dr., Kohler, 01000318

[FR Doc. 01-5949 Filed 3-8-01; 8:45 am]

BILLING CODE 4310-70-U